DEPARTMENT OF COMMERCE

International Trade Administration

[A-580-886]

Ferrovanadium From the Republic of Korea: Continuation of Antidumping Duty Order

AGENCY: Enforcement and Compliance, International Trade Administration, Department of Commerce.

SUMMARY: As a result of the respective determinations by the U.S. Department of Commerce (Commerce) and the U.S. International Trade Commission (ITC) that revocation of the antidumping duty (AD) order on ferrovanadium from the Republic of Korea (Korea) would likely lead to continuation or recurrence of dumping and material injury to an industry in the United States, Commerce is publishing this notice of continuation of the AD order.

DATES: Applicable November 29, 2022.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On May 15, 2017, Commerce published the AD order on ferrovanadium from Korea.¹ On April 1, 2022, Commerce initiated,² and the ITC instituted,³ this sunset review of the Order, pursuant to section 751(c) of the Tariff Act of 1930, as amended (the Act).

¹ See Ferrovanadium from the Republic of Korea: Antidumping Duty Order, 82 FR 22309 (May 15, 2017) (Order).

² See Initiation of Five-Year (Sunset) Reviews, 87 FR 19069 (April 1, 2022).

³ See Ferrovanadium from South Korea; Institution of a Five-Year Review, 87 FR 19129 (April 1, 2022).

As a result of its review, Commerce determined, pursuant to sections 751(c)(1) and 752(c) of the Act, that revocation of the Order would likely lead to continuation or recurrence of dumping. Commerce, therefore, notified the ITC of the magnitude of the margins of dumping likely to prevail should the Order be revoked.⁴ On November 21, 2022, the ITC published its determination that revocation of the Order would likely lead to continuation or recurrence of material injury to an industry in the United States within a reasonably foreseeable time, pursuant to sections 751(c) and 752(a) of the Act.⁵

⁴ See Ferrovanadium from the Republic of Korea: Final Results of the Expedited Sunset Review of the Antidumping Duty Order, 87 FR 48151 (August 8, 2022), and accompanying Issues and Decision Memorandum.

⁵ See Ferrovanadium From South Korea, 87 FR 70866 (November 21, 2022).

Scope of the Order

The product covered by the Order is all ferrovanadium regardless of grade (i.e., percentage of contained vanadium), chemistry, form, shape, or size. Ferrovanadium is an alloy of iron and vanadium. Ferrovanadium is classified under Harmonized Tariff Schedule of the United States (HTSUS) item number 7202.92.0000. Although this HTSUS item number is provided for convenience and customs purposes, the written description of the scope of the Order is dispositive.

Continuation of the Order

As a result of the respective determinations by Commerce and the ITC that revocation of the Order would likely lead to continuation or recurrence of dumping and material injury to an industry in the United States within a reasonably foreseeable time, pursuant to section 751(d)(2) of the Act and 19 CFR 351.218(a), Commerce hereby orders the continuation of the Order. U.S. Customs and Border Protection will continue to collect AD cash deposits at the rate in effect at the time of entry for all imports of subject merchandise.

The effective date of the continuation of the Order will be the date of publication in the Federal Register of this notice of continuation. Pursuant to section 751(c)(2) of the Act and 19 CFR 351.218(c)(2), Commerce intends to initiate the next five-year (sunset) review of this Order not later than 30 days prior to the fifth anniversary of the effective date of continuation.

Administrative Protective Order (APO)

This notice serves as the only reminder to parties subject to an APO of their responsibility concerning the return, destruction, or conversion to judicial protective order of proprietary information disclosed under APO in accordance with 19 CFR 351.305(a)(3). Failure to comply is a violation of the APO which may be subject to sanctions.

Notification to Interested Parties

This five-year sunset review and notice are in accordance with section 751(c) of the Act and the notice is published pursuant to section 777(i)(1) of the Act and 19 CFR 351.218(f)(4).

Dated: November 22, 2022.
Abdelali Elouaradia,
Deputy Assistant Secretary for Enforcement and Compliance.

[FR Doc. 2022-26020 Filed 11-28-22; 8:45 am]

BILLING CODE 3510-DS-P